UNITED STATES COMMISSION ON CIVIL RIGHTS

Sunshine Act Meeting

AGENCY: U.S. Commission on Civil Rights

DATE AND TIME: Friday, December 7, 2001, 9:30 a.m.

PLACE: U.S. Commission on Civil Rights, 624 Ninth Street, NW., Room 540, Washington, DC 20425.

STATUS:

Agenda

I. Approval of Agenda

II. Approval of Minutes of November 9, 2001 Meeting

III. Announcements

IV. Staff Director's Report

V. State Advisory Committee Appointments for Alaska, California, Iowa, Mississippi, New Jersey, Nevada, North Carolina, Pennsylvania (interim), South Carolina, Vermont, and Washington

VI. Program Planning

VII. Future Agenda Items

Michael L. Foreman,
Acting Deputy General Counsel.

[FR Doc. 01-29853 Filed 11-28-01; 1:00 pm]

BILLING CODE 6335-01-M